DEPARTMENT OF THE INTERIOR

Bureau of Indian Affairs

[212A2100DD/AAKC001030/A0A501010.999900253G]

Notice of Intent To Prepare an Environmental Impact Statement for the Chuckwalla Solar Projects on the Moapa River Indian Reservation, Clark County, Nevada

AGENCY: Bureau of Indian Affairs, Interior.

ACTION: Notice of intent to prepare an environmental impact statement.

SUMMARY: The Bureau of Indian Affairs (BIA), as lead agency in cooperation with the Moapa Band of Paiute Indians (Moapa Band), Bureau of Land Management (BLM), and other agencies, intend to prepare an Environmental Impact Statement (EIS) that will evaluate the development of the Chuckwalla Solar Projects (Projects) on Moapa River Indian Reservation (Reservation) tribal lands. This notice announces the beginning of the scoping process to solicit public comments and identify potential issues related to the EIS. The BIA requests comments concerning the scope of the analysis, and identification of relevant information, studies, and analyses. It also announces that two public scoping meetings will be held virtually or in person to identify potential issues, alternatives, and mitigation to be considered in the EIS.

DATES: All comments must be received by May 3, 2021. The draft environmental impact statement is scheduled for October 2021 and the final environmental impact statement is scheduled for January 2022 with a Record of Decision in March 2022.

ADDRESSES: Send written comments to Mr. Chip Lewis, BIA Western Regional Office, 2600 North Central Avenue, 4th Floor Mailroom, Phoenix, Arizona 85004. Comments may also be sent via email to Chip.Lewis@bia.gov or on the Projects website at www.ChuckwallaSolarProjectsEIS.com.

FOR FURTHER INFORMATION CONTACT: Chip Lewis, BIA; telephone: (602) 379-6750; email: Chip.Lewis@bia.gov. Individuals who use telecommunication devices for the deaf (TDD) may call the Federal Information Relay Service (FIRS) at 1-800-877-8339 between 8 a.m. and 8 p.m., Eastern Time, Monday through Friday.

SUPPLEMENTARY INFORMATION:

Purpose and Need of the Proposed Action

The proposed Federal action, taken under 25 U.S.C. 415, is BIA's approval of the solar energy ground lease and related agreements entered into by the Moapa Band with EDF Renewables Development, Inc. (EDFR or Applicant). The agreements provide for construction, operation and maintenance (O&M), and decommissioning of up to 700 megawatts (MWs) from up to four solar photovoltaic (PV) electricity generation facilities located entirely on the Reservation and specifically on lands held in trust by the United States for the Moapa Band.

In addition, two transmission generation interconnection (gen-tie) lines would be constructed to interconnect the Projects to the regional electrical grid. Portions of these lines would cross lands managed by BLM within a designated utility corridor on the Reservation and BLM land. The BIA and BLM would approve rights-of-way (ROWs) authorizing the construction and operation of the transmission lines.

The purposes of the proposed Projects are, among other things, to: (1) Help to provide a long-term, diverse, and viable economic revenue base and job opportunities for the Moapa Band; (2) meet the terms of the existing Power Purchase Agreements (PPAs) for the output of the Projects; (3) help Nevada and neighboring states to meet their State renewable energy needs; and (4) allow the Moapa Band, in partnership with the Applicant, to optimize the use of the lease site while maximizing the potential economic benefit to the Tribe.

Preliminary Proposed Action and Alternatives

The Applicant plans to develop up to four solar projects collectively referred to as the Projects on the Reservation in Clark County, Nevada. The four solar projects would total up to 700 MWs of solar energy generation, each using photovoltaic (PV) technology and incorporating battery energy storage systems (BESS).

The proposed Chuckwalla solar generating facilities would be constructed entirely within the Reservation within a lease study area of approximately 6,400 acres of tribal trust land. These lands are in the southeast corner of the Reservation on lands set aside by the Moapa Band for the Projects. The solar fields and associated facilities would be in Sections 13, 14, 22, 23, 24, 25, 26, 27, 34, 35, and 36; Township 16 South, Range 65 East; Mount Diablo Base Meridian.

Major components of each solar site would include multiple blocks of solar PV panels mounted on tracking systems, H-beam or pad mounted inverters, transformers, collection lines, BESS, Projects substation, and O&M facilities. The four separate projects would include: Chuckwalla 1A—a 200 MW project; Chuckwalla 1B—a 50 MW project; Chuckwalla 2—a 200 MW project; and Chuckwalla 3—a 250 MW project.

Chuckwalla 1A and 1B would be built at the same time as the first phase. Chuckwalla 2 and Chuckwalla 3 would be built separately in subsequent phases. Construction of each phase is expected to take approximately 18 to 20 months.

Two gen-tie lines approximately 10 to 12 miles long would interconnect the Projects to the regional electrical grid—one to the existing Harry Allen substation and one to the existing Crystal Substation. These lines would be built parallel to one another for most of their length; approximately 4.5 miles would be in the designated utility corridor on the Reservation that is managed by BLM and BLM land.

Access to the Chuckwalla sites would be provided via I-15 to the Valley of Fire Highway to an existing 2.5-mile road on the Reservation paralleling its southern border that would be upgraded as needed. Water for each phase will be needed during construction for dust control and a minimal amount will be needed during operations for administrative/sanitary water use and panel washings. The water supply for the Projects would be leased from the Moapa Band and delivered to the site via temporary water pipeline or by truck.

The Applicant is expected to operate each of the energy facilities for up to 35 years under the terms of the solar leases with the Moapa Band. Each project is expected to be built to meet its corresponding PPA for the output of the Projects.

The EIS will focus on the Proposed Action as described above at the location on the Reservation selected by the Moapa Band. It will evaluate the Proposed Action and the No Action Alternative. Additional viable alternatives may be identified in response to issues raised during the scoping process.

Summary of Expected Impacts

Potential impacts to be addressed in the EIS analysis may include, but would not be limited to, impacts on water resources, biological resources, threatened and endangered species, cultural resources, Native American religious concerns, aesthetics, and traffic. In addition to those resource topics identified above, Federal, State, and local agencies, along with other stakeholders that may be interested or affected by the BIA's decision on the proposed Projects, are invited to participate in the scoping process to identify additional issues to be addressed.

Anticipated Permits and Authorizations

In addition to the land lease and ROWs to be approved by BIA and the ROWs to be approved by BLM, the Projects would also require other permits and authorizations. These could include a Utility Environmental Protection Act (UEPA) permit from the Public Utilities Commission of Nevada and/or dust control and special use permits from Clark County.

Schedule for the Decision-Making Process

The EIS will provide a framework for BIA and BLM to make determinations and to decide whether to take the aforementioned Federal actions. The Records of Decision (RODs) to be issued by the BIA and BLM are currently scheduled for March 2022.

Public Scoping Process

This notice of intent initiates the scoping process, which guides the development of the EIS. Two public scoping meetings will be conducted either virtually or in person to further describe the Projects and identify potential issues and alternatives to be considered in the EIS. If in person, one public scoping meeting will be held on the Reservation and the other public scoping meeting will be held in Las Vegas, Nevada. If held virtually, the public meetings can be joined online through the Projects website at www.ChuckwallaSolarProjectsEIS.com. Those unable to live stream the presentation would be able to access the meeting presentation on the project website and could join by telephone. Additionally, the live presentation will be recorded and made accessible for viewing throughout the scoping period. During either the in-person or virtual meetings, a short presentation will be made and team members will be present to discuss and answer questions. The PowerPoint presentation will be posted to the Projects website and printed copies will be made available at the BLM Las Vegas Field Office and the Moapa River Indian Reservation Tribal Hall prior to the meetings. The dates of the public scoping meetings will be included in notices to be posted in the Las Vegas Sun, Las Vegas Review-Journal, and Moapa Valley Progress 15 days before the meetings.

Please include your name, return address, and the caption “EIS, Chuckwalla Solar Projects,” on the first page of any written comments. You may also submit comments at the public scoping meetings.

Request for Identification of Potential Alternatives, Information, and Analyses Relevant to the Proposed Action

Interested parties are invited to identify potential alternatives, issues to be analyzed, mitigation measures, and other information to be considered in the EIS.

Lead and Cooperating Agencies

BIA will prepare the EIS in cooperation with the Moapa Band, BLM, Environmental Protection Agency (EPA), U.S. Fish and Wildlife Service (USFWS), and possibly the National Park Service (NPS) and Nevada Department of Wildlife (NDOW). The resulting EIS will aim to: (1) Provide agency decision makers, the Moapa Band, and the general public with a comprehensive understanding of the impacts of the proposed development of the solar field on the Reservation; (2) describe the cumulative impacts of increased development on the Reservation; and (3) identify and propose mitigation measures that would minimize or prevent significant adverse impacts.

Decision Maker

This notice is published in accordance with 40 CFR 1501.9 of the Council of Environmental Quality regulations and 43 CFR 46.235 of the Department of the Interior Regulations implementing the procedural requirements of the NEPA (42 U.S.C. 4321 et seq.), and in accordance with the exercise of authority delegated to the Principal Deputy Assistant Secretary—Indian Affairs by part 209 of the Department Manual.

Nature of Decision To Be Made

The BIA and the BLM decisions, if approved, would assist in addressing the management objectives in the Energy Policy Act of 2005 (Title II, Section 211) and Secretarial Order 3285A1 (March 11, 2009) that established the development of environmentally responsible renewable energy as a priority for the Department of the Interior.

Because the BIA has a jurisdictional trust responsibility over Indian lands and the BLM has land management responsibilities under FLPMA, the Projects is a major Federal action and must comply with the National Environmental Policy Act (NEPA) of 1969 (42 U.S.C. 4321 et seq.). Because most of the Projects would be located on tribal trust lands, the BIA is the lead federal agency. The Moapa Band, BLM, EPA, NPS, NDOW, and USFWS may be cooperating agencies on the EIS for the Projects. The BIA and BLM will use this EIS to make their respective decisions and the other cooperating parties will use this information to support their analyses and decisions, as needed. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Bryan Newland,
Principal Deputy Assistant Secretary—Indian Affairs.

[FR Doc. 2021-08469 Filed 4-22-21; 8:45 am]

BILLING CODE 4337-15-P